DEPARTMENT OF ENERGY

Federal Energy Regulatory Commission

Combined Notice of Filings #1

Take notice that the Commission received the following electric rate filings:

Docket Numbers: ER08-1281-010.

Applicants: 330 Fund I, LP v. New York Independent System Operator, Inc.

Description: Compliance Notice to confirm timely development of new interface pricing software of New York Independent System Operator, Inc.

Filed Date: 12/22/11.

Accession Number: 20111222-5252.

Comments Due: 5 p.m. ET 1/12/12.

Docket Numbers: ER10-1781-001.

Applicants: Northern Indiana Public Service Company.

Description: Updated Market Power Analysis of Northern Indiana Public Service Company.

Filed Date: 12/28/11.

Accession Number: 20111228-5139.

Comments Due: 5 p.m. ET 2/27/12.

Docket Numbers: ER10-2034-001; ER10-2032-002; ER10-2033-002; ER10-1329-001.

Applicants: Duke Energy Ohio, Inc., Duke Energy Kentucky, Inc., Duke Energy Corporation, Duke Energy Indiana, Inc., St. Paul Cogeneration, LLC.

Description: Updated market power analysis of Duke Energy Central Region.

Filed Date: 12/28/11.

Accession Number: 20111228-5135.

Comments Due: 5 p.m. ET 2/27/12.

Docket Numbers: ER10-2211-001; ER10-2218-001.

Applicants: Vandolah Power Company, L.L.C., Orlando CoGen Limited, L.P.

Description: Vandolah Power Company, L.L.C., et al. submits Triennial MBR Compliance Filing.

Filed Date: 12/28/11.

Accession Number: 20111228-5073.

Comments Due: 5 p.m. ET 2/27/12.

Docket Numbers: ER10-2570-006.

Applicants: Shady Hills Power Company L.L.C.

Description: Report of Shady Hills Power Company LLC, Submission of triennial market power analysis.

Filed Date: 12/29/11.

Accession Number: 20111229-5147.

Comments Due: 5 p.m. ET 2/27/12.

Docket Numbers: ER10-3199-001.

Applicants: Montana-Dakota Utilities Co., a Division.

Description: Montana-Dakota Utilities Co. Triennial Review, Updated Market Power Analysis.

Filed Date: 12/28/11.

Accession Number: 20111228-5138.

Comments Due: 5 p.m. ET 2/27/12.

Docket Numbers: ER10-3203-002.

Applicants: J. Aron & Company.

Description: J. Aron & Company's Updated Market Power Analysis for the Southeast Region.

Filed Date: 12/28/11.

Accession Number: 20111228-5134.

Comments Due: 5 p.m. ET 2/27/12.

Docket Numbers: ER12-706-000.

Applicants: PJM Interconnection, L.L.C.

Description: PJM SA No. 3164; Queue No. V4-006, V4-007, V4-030 and V4-031 to be effective 11/28/2011.

Filed Date: 12/28/11.

Accession Number: 20111228-5080.

Comments Due: 5 p.m. ET 1/18/12.

Docket Numbers: ER12-707-000.

Applicants: PJM Interconnection, L.L.C.

Description: PJM Interconnection, L.L.C. submits tariff filing per 35.13(a)(2)(iii: Queue Position W2-019; Original Service Agreement No. 3165 to be effective 11/28/2011.

Filed Date: 12/28/11.

Accession Number: 20111228-5089.

Comments Due: 5 p.m. ET 1/18/12.

Docket Numbers: ER12-708-000.

Applicants: Duke Energy Vermillion II, LLC.

Description: Duke Energy Vermillion II, LLC submits tariff filing per 35.37: Central Triennial Filing to be effective 1/9/2011.

Filed Date: 12/28/11.

Accession Number: 20111228-5107.

Comments Due: 5 p.m. ET 2/27/12.

Docket Numbers: ER12-709-000.

Applicants: NaturEner Wind Watch, LLC.

Description: NaturEner Wind Watch, LLC submits tariff filing per 35.1: Coordinated Operating Agreement with NorthWestern Corporation to be effective 12/28/2011.

Filed Date: 12/28/11.

Accession Number: 20111228-5109.

Comments Due: 5 p.m. ET 1/18/12.

Docket Numbers: ER12-710-000.

Applicants: Northern Indiana Public Service Company.

Description: Northern Indiana Public Service Company submits tariff filing per 35.12: Transmission Upgrade Agreement and Request for Waiver and Expedited Treatment to be effective 12/28/2011.

Filed Date: 12/28/11.

Accession Number: 20111228-5110.

Comments Due: 5 p.m. ET 1/18/12.

Docket Numbers: ER12-711-000.

Applicants: NorthWestern Corporation.

Description: NorthWestern Corporation submits tariff filing per 35.13(a)(2)(iii: Coordinated and Restated Operating Agreement with NaturEner Wind Watch to be effective 12/21/2011.

Filed Date: 12/28/11.

Accession Number: 20111228-5111.

Comments Due: 5 p.m. ET 1/18/12.

Docket Numbers: ER12-712-000.

Applicants: Southern California Edison Company.

Description: Southern California Edison Company submits tariff filing per 35.13(a)(2)(iii: LGIA Alta 2012 Project, Alta Windpower Development, Alta Wind VII, X, XI to be effective 12/30/2011.

Filed Date: 12/29/11.

Accession Number: 20111229-5096.

Comments Due: 5 p.m. ET 1/19/12.

Docket Numbers: ER12-713-000.

Applicants: Southern California Edison Company.

Description: Southern California Edison Company submits tariff filing per 35.13(a)(2)(iii: SGIA SCE-TA-High Desert LLC Antelope Power Plant Project to be effective 12/30/2011.

Filed Date: 12/29/11.

Accession Number: 20111229-5097.

Comments Due: 5 p.m. ET 1/19/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 29, 2011.
Nathaniel J. Davis, Sr.,
Deputy Secretary.

[FR Doc. 2012-117 Filed 1-6-12; 8:45 am]

BILLING CODE 6717-01-P